FEDERAL COMMUNICATIONS COMMISSION

47 CFR Part 64

[WC Docket No. 12-375; DA 13-1445]

More Data Sought on Extra Fees Levied on Inmate Calling Services

AGENCY: Federal Communications Commission.

ACTION: Proposed rule.

SUMMARY: In this document, the Wireline Competition Bureau (Bureau) seeks additional comment on certain fees related to inmate calling services (ICS). The record to date indicates that ICS providers may charge ICS account holders fees that appear ancillary to making calls, such as account setup fees, account replenishment fees, account refund fees, and account inactivity fees.

DATES: Comments due on or before July 17, 2013; reply comments due on or before July 24, 2013.

ADDRESSES: You may submit comments, identified by WC Docket No. 12-375, by any of the following methods:

• Federal Communications Commission's Web site: http://fjallfoss.fcc.gov/ecfs2/. Follow the instructions for submitting comments.

• Mail: Commercial overnight mail (other than U.S. Postal Service Express Mail and Priority Mail) must be sent to 9300 East Hampton Drive, Capitol Heights, MD 20743.

• U.S. Postal Service first-class, Express, and Priority mail must be addressed to 445 12th Street SW., Washington DC 20554.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Gregory Haledjian, Wireline Competition Bureau, Pricing Policy Division, (202) 418-1520 or gregory.haledjian@fcc.gov.

SUPPLEMENTARY INFORMATION: This is a summary of the Commission's Public Notice, WC Docket No. 12-375; DA 13-1445, released June 26, 2013. The complete text of this document is available for inspection and copying during normal business hours in the FCC Reference Information Center, Portals II, 445 12th Street SW., Room CY-A257, Washington DC 20554. The document may also be purchased from the Commission's duplicating contractor, Best Copy and Printing, Inc., 445 12th Street SW., Room CY-B402, Washington, DC 20554, telephone (800) 378-3160 or (202) 863-2893, facsimile (202) 863-2898, or via Internet at http://www.bcpiweb.com.

The Bureau requests that parties provide data and information about such fees. Specifically, we request that parties identify any ancillary ICS fees that ICS providers charge in connection with the provision of interstate ICS, the level of each fee, the total amount of revenue received from each fee, and the cost of providing the service for which the fee recovers. We also request that parties identify any portion of ancillary service costs that are shared or common to the provision of other services, and explain how these costs, and recovery of them, are apportioned among the services to which they are shared or common. To evaluate how costs associated with providing ancillary services relate to ICS providers' overall costs, we request that costs that are shared or common to the provision of ancillary ICS services be identified, and that parties explain how such costs are apportioned to and recovered by ICS rates. Providers submitting joint and common costs are requested to provide both per-minute rates and fixed charges associated with interstate ICS and intrastate ICS and information on the costs of providing ICS, including but not limited to Customer Premise Equipment or CPE, installation, specific security enhancements (such as monitoring and call blocking), labor, maintenance, interconnection fees, and any other cost recovered by ICS rates. In addition to per-minute or incremental costs, we seek information on fixed costs, including recovered and unrecovered costs, historic and projected demand, and information on how such costs are recovered.

Procedural Matters

Initial Regulatory Flexibility Act Analysis

As discussed above, the Public Notice seeks comment on certain issues raised in the Rates for Interstate Inmate Calling Services NPRM that is intended to refresh the record regarding rates for interstate ICS calling. The Initial Regulatory Flexibility Analysis (IRFA) for that proceeding is found at Appendix C of the Rates for Interstate Inmate Calling Services NPRM, 78 FR 4369-01 (January 22, 2013). In addition, we invite comment on the IRFA in light of developments since the issuance of the original IRFA.

Paperwork Reduction Act

As discussed above, this Public Notice seeks comment on certain issues raised in the Rates for Interstate Inmate Calling Services NPRM that is intended to refresh the record regarding rates for interstate ICS calling. The Initial Regulatory Flexibility Analysis (IRFA) for that proceeding is found at Appendix C of the Rates for Interstate Inmate Calling Services NPRM, 78 FR 4369-01 (January 22, 2013). In addition, we invite comment on the IRFA in light of developments since the issuance of the original IRFA.

Ex Parte Requirements

This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Filing Requirements

Pursuant to §§ 1.415 and 1.419 of the Commission's rules, 47 CFR 1.415, 1.419, interested parties may file comments on or before the date indicated on the first page of this document. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

People with Disabilities: To request materials in accessible formats for people with disabilities (Braille, large print, electronic files, audio format), send an email to fcc504@fcc.gov or call the Consumer & Governmental Affairs Bureau at (202) 418-0530 (voice) or (202) 418-0432 (tty).

The proceeding the Public Notice refers to shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Kalpak Gude,
Division Chief, Pricing Policy Division, Wireline Competition Bureau.

[FR Doc. 2013-16776 Filed 7-12-13; 8:45 am]

BILLING CODE 6712-01-P